DEPARTMENT OF ENERGY

Federal Energy Regulatory Commission

[Docket Nos. PL04-15-000, RM02-12-000, RM02-1-001, RM02-1-005]

Interconnection for Wind Energy and Other Alternative Technologies; Standardization of Small Generator Interconnection Agreements and Procedures; Standardizing Generator Interconnection Agreements and Procedures; Notice Regarding Post-Technical Conference Comments

October 7, 2004.

On September 24, 2004, the Commission held a technical conference in the above-referenced dockets regarding the issues raised by a petition for rulemaking submitted by the American Wind Energy Association (AWEA) related to the adoption of certain requirements for the interconnection of large wind generators. Specifically, the conference focused on the interconnection of wind energy and other alternative technologies, and considered the technical requirements for the interconnection of large and small wind generators and other alternative technologies, and the need for creating specific requirements for their interconnection to the grid. A transcript of the technical conference will be available in the near future from the Commission's Web site, http://www.ferc.gov.

At the technical conference, Staff stated that the Commission would allow interested parties to file post-technical conference comments. These comments must be filed with the Commission no later than 5 p.m. Eastern Standard Time (EST) on November 1, 2004.

Magalie R. Salas,
Secretary.

[FR Doc. E4-2669 Filed 10-15-04; 8:45 am]

BILLING CODE 6717-01-P